SECURITIES AND EXCHANGE COMMISSION

[Release No. 34-44256A; File No. SR-Amex-2001-24]

Self-Regulatory Organizations; Notice of Filing and Immediate Effectiveness of a Proposed Rule Change by the American Stock Exchange LLC Relating to Independent Director and Audit Committee Requirements

May 23, 2001.

Correction

In FR Document 01-11801 beginning on page 23955 for Thursday, May 10, 2001, the date for File No. SR-2001-24 should read May 4, 2001.

Margaret H. McFarland,
Deputy Secretary.

[FR Doc. 01-13474 Filed 5-29-01; 8:45 am]

BILLING CODE 8010-01-M